DEPARTMENT OF EDUCATION

[CFDA NO: 84.349A]

Early Childhood Educator Professional Development Program

AGENCY: Office of Elementary and Secondary Education, Department of Education.

ACTION: Notice of final achievement indicators.

SUMMARY: The Under Secretary announces final achievement indicators for the Early Childhood Educator Professional Development Program, for fiscal year (FY) 2003 and future years' grants. These achievement indicators will help ensure that the professional development provided under these discretionary grants will improve the knowledge and skills of early childhood educators who work in high-poverty communities, and will enhance the school readiness of young children, particularly disadvantaged young children, to prevent them from encountering difficulties once they enter school.

EFFECTIVE DATE: These achievement indicators are effective April 30, 2003.

FOR FURTHER INFORMATION CONTACT: Melanie Kadlic, U.S. Department of Education, Office of Elementary and Secondary Education, 400 Maryland Avenue, SW., room 3C138, FB-6, Washington, DC 20202-2645. Telephone (202) 260-3793 or via Internet: Melanie.Kadlic@ed.gov.

If you use a telecommunications device for the deaf (TDD), you may call the TDD number at (202) 205-4475.

Individuals with disabilities may obtain this document in an alternative format (e.g., Braille, large print, or computer diskette) on request to the contact person listed under FOR FURTHER INFORMATION CONTACT.

SUPPLEMENTARY INFORMATION: The Early Childhood Educator Professional Development Program (ECEPD) is a discretionary grant program authorized by section 2151(e) of the Elementary and Secondary Education Act (ESEA), as added by the No Child Left Behind Act, Public Law 107-110. The ECEPD program provides funds for projects that carry out activities to improve the knowledge and skills of early childhood educators working in programs that are located in high-need communities, particularly those serving disadvantaged young children. These programs are based on the best available research on early childhood pedagogy and on child development and learning, including the age-appropriate development of oral language, phonological awareness, print awareness, alphabet knowledge, and numeracy skills. The grants serve an important purpose because high-quality, intensive, research-based professional development is critical for implementing effective early childhood programs that improve young children's readiness for school.

ECEPD grants are made to partnerships of: providers of professional development for early childhood educators; State or local public agencies or private organizations; and, if feasible, a provider experienced in training early childhood educators to identify and prevent behavior problems or work with children identified as or suspected to be victims of abuse.

Section 2151(e)(6) of the ESEA requires the Secretary to announce achievement indicators for the ECEPD program. These achievement indicators must be designed: (1) To measure the quality and accessibility of the professional development provided; (2) to measure the impact of that professional development on the early childhood education provided by the individuals who receive the professional development; and (3) to provide any other measures of program impact that the Secretary determines to be appropriate. The statute requires each partnership receiving an ECEPD grant to report annually to the Secretary on the partnership's progress toward attaining these achievement indicators. The Secretary may terminate an ECEPD grant if the Secretary determines that the partnership receiving the grant is not making satisfactory progress toward attaining the achievement indicators.

The Secretary will use these final achievement indicators for the ECEPD grant competition for FY 2003, and for future years, unless otherwise announced.

On January 6, 2003, the Secretary published a Notice of Proposed Achievement Indicators for this program (68 FR 547). These final achievement indicators are similar to those proposed indicators, with two differences. First, these final indicators will measure the extent to which projects provide professional development on the effective, age-appropriate assessment of young children. Second, these indicators clarify that research-based approaches in early childhood pedagogy and child development and learning domains include activities that promote the age-appropriate development of oral language, phonological awareness, print awareness, alphabet knowledge, and numeracy skills. These changes from the proposed indicators are explained in the Analysis of Comments and Changes in this notice.

Analysis of Comments and Changes

The Department received relevant comments from three parties in response to the Assistant Secretary's invitation to comment in the Notice of Proposed Achievement Indicators. The Department also received other comments that were not relevant to the proposed indicators. Commenters indicated their support of a number of aspects of the proposed indicators, including commending the indicators' general emphasis on child development research and high-quality professional development, supporting in particular the indicator on participation in and intensity of the professional development (Indicator 2), and supporting the indicator on using research-based approaches that include using a content-rich curriculum and activities (Indicator 4). An analysis of other relevant comments, and the Secretary's responses to those comments, is presented below. Comments are grouped according to subject.

Comment: One commenter requested that the achievement indicators include professional development in the areas of effective observation, tracking, and assessment of young children, including children with disabilities. The commenter indicated that, to ensure that content-rich curriculum and activities that promote cognitive, language, social, physical, and emotional development are achieving desired child outcomes, early childhood educators must have access to high-quality, research-based instruction and best practices in effective data gathering, tracking, assessment, and analysis of child development. The commenter indicated that professional development should include specific, targeted training in how to use, and analyze effectively, diverse valid and reliable research-based assessment instruments for young children, including those that effectively track and measure the developmental progress of children with disabilities.

Discussion: The applicable definition of “professional development” in section 9101(34) of the ESEA includes instruction in the use of data and assessments to inform and instruct classroom practice. The Secretary agrees that specific training for early childhood educators in the effective, age-appropriate assessment of young children is an integral part of a high-quality professional development program. This training will enable the educators to administer screening and other assessments effectively and use the results to inform instruction, and to identify children with special needs.

Change: A clarifying change has been made to the first, third, and fourth achievement indicators to clarify that the effective, age-appropriate assessment of young children is included in a high-quality professional development program.

Comment: One commenter expressed the understanding that mastery and control over a variety of teaching strategies is included in “high-quality professional development” in the first indicator and “effective strategies to support school readiness” in the third indicator.

Discussion: The Secretary agrees that high-quality professional development, and effective strategies to support school readiness, both generally require knowledge and understanding of a variety of teaching strategies to meet the diverse learning needs of all students in the classroom, including students with special needs.

Changes: None.

Comment: One commenter addressed the specific ways that children may demonstrate “improved readiness for school” in Indicator 5. With respect to social and emotional child behaviors, the commenter indicated that behaviors that demonstrate readiness include growth in initiative, ability to orient to and feel comfortable in a group setting, decision making, and negotiating ideas and social interactions with peers and adults. The commenter also stated that readiness in the areas of language and literacy will be demonstrated when children can show growth in the use of language to express ideas, relate to others, and explain and discuss their thinking as they investigate their surroundings.

Discussion: The Secretary believes that the indicator on how children will demonstrate improved readiness for school needs to remain broad, to provide applicants with the flexibility to be responsive in their grant proposals to their own State standards. School readiness is defined by what each child should know and be able to do by the time that child enters elementary school in the State in which that child lives. That is, early childhood education should prepare children with the knowledge, skills, and dispositions needed to meet a State's preschool standards or content guidelines, if any, and the foundational knowledge and skills that the children will need in order to meet that State's content standards when the children reach the lowest grade for which the State has elementary content standards.

Change: None.

Comment: Two commenters suggested that the achievement indicators would be stronger if they were more specific concerning content and quality of professional development. For example, one commenter suggested that achievement indicators should indicate how early childhood educators: engage children in appropriate interactions that encourage early language and cognitive development; individualize experiences for young children based on observation of children's abilities, development, and learning; and form and maintain culturally competent relationships with parents of young children served. Another commenter suggested that the achievement indicators specify the experiences in which early childhood educators will engage children. For example, the commenter defined “content-rich,” as referenced in Indicator 4, to mean “conceptually rich experiences that grow out of direct experience with concrete materials related to the disciplines of the physical and natural sciences and the social sciences.”

Discussion: High-quality professional development for early childhood education programs must be based on scientific research on early childhood cognitive and social development. The Secretary agrees that the indicators would be strengthened by indicating the specific types of early childhood developmental skills that research shows are included in early language and cognitive development, namely, the age-appropriate development of oral language, phonological awareness, print awareness, alphabet knowledge, and numeracy skills.

As provided in Indicator 4, research-based approaches in early childhood pedagogy and child development and learning domains include using a content-rich curriculum. The Secretary believes that the specific content and context of the curriculum should remain broadly defined in the indicators, however, to give applicants the flexibility to align their high-quality, research-based professional development programs with their State's preschool standards or content guidelines, if any, and to address the foundational knowledge and skills that the children will need in order to meet that State's content standards when the children reach the lowest grade for which the State has elementary content standards.

Change: Changes are made to the first and fourth indicator to clarify that research-based approaches on early childhood cognitive and social development include the age-appropriate development of oral language, phonological awareness, print awareness, alphabet knowledge, and numeracy skills. A change is made to the fifth indicator by adding numeracy to the competencies that children need to demonstrate improved readiness for school.

Achievement Indicators: The Secretary announces the following final achievement indicators for the ECEPD program, as required by section 2151(e)(6) of the ESEA.

In accordance with the timeline included in the approved application:

Indicator 1: Projects will offer an increasing number of hours of high-quality professional development to early childhood educators. High-quality professional development is ongoing, intensive, classroom-focused, and based on scientific research on early childhood cognitive and social development, including the age-appropriate development of oral language, phonological awareness, print awareness, alphabet knowledge, and numeracy skills, and on effective pedagogy for young children. High-quality professional development also includes instruction in the effective administration of age-appropriate assessments of young children and the use of assessment results.

Indicator 2: Early childhood educators who work in early childhood programs serving low-income children will participate in greater numbers, and in increasing numbers of hours, in high-quality professional development.

Indicator 3: Early childhood educators will demonstrate increased knowledge and understanding of effective strategies to support school readiness based on scientific research on cognitive and social development in early childhood and effective pedagogy for young children, and in the effective administration of age-appropriate assessments of young children and the use of assessment results.

Indicator 4: Early childhood educators will more frequently apply research-based approaches in early childhood pedagogy and child development and learning domains, including using a content-rich curriculum and activities that promote the age-appropriate development of oral language, age-appropriate social and emotional behavior, phonological awareness, print awareness, alphabet knowledge, and numeracy skills. Early childhood educators also will more frequently participate in the effective administration of age-appropriate assessments of young children and the use of assessment results.

Indicator 5: Children will demonstrate improved readiness for school, especially in the areas of appropriate social and emotional behavior and early language, literacy, and numeracy skills.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

You may also view this document in text or PDF at the following site: http://www.ed.gov/offices/OESE/SASA/ecprofdev.html.

Note: The official version of this document is the document published in the Federal Register. Free Internet access to the official edition of the Federal Register and the Code of Federal Regulations is available on GPO Access at: http://www.access.gpo.gov/nara/index.html.

Program Authority: 20 U.S.C. 6651(e).

(Catalog of Federal Domestic Assistance Number 84.349A. Early Childhood Educator Professional Development Program)
Dated: March 26, 2003.
Eugene W. Hickok,
Under Secretary.

[FR Doc. 03-7762 Filed 3-28-03; 8:45 am]

BILLING CODE 4000-01-P